DEPARTMENT OF TRANSPORTATION

National Highway Traffic Safety Administration

49 CFR Part 571

[Docket No. NHTSA-2020-0109]

RIN 2127-AM04

Federal Motor Vehicle Safety Standards; Test Procedures; Reopening of Comment Period

AGENCY: National Highway Traffic Safety Administration (NHTSA), Department of Transportation (DOT).

ACTION: Reopening of comment period.

SUMMARY: In response to a request from the Alliance for Automotive Innovation (Auto Innovators), NHTSA is announcing a reopening of the comment period on an advance notice of proposed rulemaking (ANPRM) published December 10, 2020. The ANPRM requests public comment on whether any test procedure for any Federal Motor Vehicle Safety Standard (FMVSS) may be a candidate for replacement, repeal, or modification, for reasons other than for considerations relevant only to automated driving systems (ADS). The comment period for the ANPRM was originally scheduled to end on February 8, 2021. It will now be reopened and will end on April 9, 2021.

DATES: The comment period for the ANPRM published on December 10, 2020 at 85 FR 79456 is reopened and extended to April 9, 2021.

ADDRESSES: Comments must be submitted by one of the following methods:

• Federal eRulemaking Portal: go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building Ground Floor, Room W12-140, 1200 New Jersey Avenue SE, between 9 a.m. and 5 p.m. Eastern Time, Monday through Friday, except Federal holidays. To be sure someone is there to help you, please call (202) 366-9322 before coming.

• Fax: (202) 493-2251.

Regardless of how you submit your comments, you must include the docket number identified in the heading of this document.

Note that all comments received, including any personal information provided, will be posted without change to http://www.regulations.gov. Please see the “Privacy Act” heading below.

You may call the Docket Management Facility at (202) 366-9322. For access to the docket to read background documents or comments received, go to http://www.regulations.gov or the street address listed above. We will continue to file relevant information in the docket as it becomes available. To be sure someone is there to help you, please call (202) 366-9322 before coming. We will continue to file relevant information in the Docket as it becomes available.

Privacy Act: In accordance with 5 U.S.C. 553(c), DOT solicits comments from the public to inform its decision-making process. DOT posts these comments, without edit, including any personal information the commenter provides, to http://www.regulations.gov, as described in the system of records notice (DOT/ALL-14 FDMS), which can be reviewed at https://www.transportation.gov/privacy. Anyone is able to search the electronic form of all comments received into any of our dockets by the name of the individual submitting the comment (or signing the comment, if submitted on behalf of an association, business, labor union, etc.). You may review DOT's complete Privacy Act Statement in the Federal Register published on April 11, 2000 (65 FR 19477-78).

FOR FURTHER INFORMATION CONTACT: For technical issues, you may contact Ms. Mary Versailles, Office of Rulemaking, 1200 New Jersey Avenue SE, Washington, DC 20590; mary.versailles@dot.gov. For legal issues, you may contact Ms. Callie Roach, Attorney-Advisor, Vehicle Rulemaking and Harmonization, Office of Chief Counsel, (202) 597-1312, 1200 New Jersey Avenue SE, Washington, DC 20590; callie.roach@dot.gov.

SUPPLEMENTARY INFORMATION: On December 10, 2020, NHTSA published an ANPRM to obtain public comments on whether any test procedure for any FMVSS may be a candidate for replacement, repeal, or modification, for reasons other than for considerations relevant only to automated driving systems (ADS) (85 FR 79456). The ANPRM provided examples of test procedures found in FMVSS Nos. 103, 104, 105/135, 121, and 126 to facilitate responses and asked commenters to consider whether the agency should make changes to these test procedures or to any other test procedure. The ANPRM also asked commenters to provide research, evidence, and data to support why such change may be necessary. The ANPRM stated that the closing date for comments was February 8, 2021.

NHTSA received on January 14, 2021 a petition from Auto Innovators for a 30-day extension of the comment period. The request states that additional time is necessary to permit Auto Innovators to conduct a comprehensive review of the extensive number of regulations and FMVSS that contain detailed test procedures, including standards that reference industry standards. Auto Innovators also notes that its efforts to organize group meeting have been hampered by working inefficiencies induced by COVID meeting restrictions. The request can be found in the docket for the ANPRM identified in the heading of this document.

In accordance with NHTSA's rulemaking procedures in 49 CFR part 553, subpart B, the agency is granting this request to reopen and extend the comment period. We have determined that the requestors have shown good cause for an extension, and that the extension is consistent with the public interest (49 CFR 553.19). A 30-day reopening and extension appropriately balances NHTSA's interest in providing the public with sufficient time to comment on the notice with its interest in proceeding with this rulemaking in a timely manner. Accordingly, NHTSA is reopening and extending the comment period to the date shown in the DATES section of this document.

Issued in Washington, DC pursuant to authority delegated in 49 CFR 1.95 and 501.8.
Raymond R. Posten,
Associate Administrator for Rulemaking.

[FR Doc. 2021-04933 Filed 3-9-21; 8:45 am]

BILLING CODE 4910-59-P